DEPARTMENT OF HEALTH AND HUMAN SERVICES

Substance Abuse and Mental Health Services Administration

Center for Substance Abuse Prevention; Notice of Meeting

Pursuant to Pub. L. 92-463, notice is hereby given of the meeting of the Center for Substance Abuse Prevention (CSAP) Drug Testing Advisory Board to be held in June 2000. A portion of the meeting will be open and will include a Department of Health and Human Services drug testing program update, a Department of Transportation drug testing program update, a review of urine drug testing issues, and a presentation of draft policies for alternative specimen testing and on-site testing.

If anyone needs special accommodations for persons with disabilities, please notify the contact listed below.

The meeting will also include the review, discussion, and evaluation of sensitive National Laboratory Certification Program (NLCP) internal operating procedures and program development issues. Therefore, a portion of the meeting will be closed to the public as determined by the SAMHSA Administrator in accordance with Title 5 U.S.C. 552b(c)(2), (4), and (6) and 5 U.S.C. App.2, § 10(d).

A summary of the meeting and a roster of board members may be obtained from: Mrs. Giselle Hersh, Division of Workplace Programs, 5600 Fishers Lane, Rockwall II, Suite 815, Rockville, MD 20857, Telephone: (301) 443-6014.

Substantive program information may be obtained from the contact whose name and telephone number is listed below.

Committee Name: Center for substance Abuse Prevention Drug Testing Advisory Board.

Meeting Date: June 6, 2000; 8:30 a.m.-4:30 p.m., June 7, 2000; 8:30 a.m.-3:30 p.m.

Place: Holiday Inn 5520 Wisconsin Avenue, Chevy Chase, Maryland 20815.

Type: Open: June 6, 2000; 8:30 a.m.-4:30 p.m.; Closed: June 7, 2000; 8:30 a.m.-3:30 p.m.

Contact: Donna M. Bush, Ph.D., Executive Secretary, Telephone: (301) 443-6014, and FAX: (301) 443-3031.

Dated: April 21, 2000.
Toiann Vaughn,
Committee Management Officer, Substance Abuse and Mental Health Services Administration.

[FR Doc. 00-10697 Filed 4-28-00; 8:45 am]

BILLING CODE 4162-20-P